DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for 7 of its 13 national marine sanctuary advisory councils and for the Northwestern Hawaiian Islands Coral Reef Ecosystem Reserve Advisory Council (advisory councils). Vacant seats, including positions (i.e., primary member and alternate), for each of the advisory councils are listed in this notice under Supplementary Information. Applicants are chosen based upon their particular expertise and experience in relation to the seat for which they are applying; community and professional affiliations; philosophy regarding the protection and management of marine resources; and possibly the length of residence in the area affected by the sanctuary. Applicants who are chosen as primary members or alternates should expect to serve two- or three-year terms, pursuant to the charter of the specific national marine sanctuary advisory council or the Northwestern Hawaiian Islands Coral Reef Ecosystem Reserve Advisory Council.

DATES: Applications are due by December 31, 2013.

ADDRESSES: Application kits are specific to each advisory council. As such, application kits must be obtained from and returned to the council-specific addresses noted below.

• Flower Garden Banks National Marine Sanctuary Advisory Council: Jennifer Morgan, Flower Garden Banks National Marine Sanctuary, 4700 Avenue U, Bldg. 216, Galveston, TX 77551; (409) 621-5151 extension 103; email Jennifer.Morgan@noaa.gov; or download application from http://flowergarden.noaa.gov/advisorycouncil/councilnews.html.

• Gray's Reef National Marine Sanctuary Advisory Council: Becky Shortland, Gray's Reef National Marine Sanctuary, 10 Ocean Science Circle, Savannah, GA 31411; (912) 598-2381; email Becky.Shortland@noaa.gov; or download application from http://graysreef.noaa.gov/.

• Gulf of the Farallones National Marine Sanctuary Advisory Council: Leslie Abramson, Gulf of the Farallones National Marine Sanctuary, 991 Marine Drive, The Presidio, San Francisco, CA 94129; 415-561-6622 extension 306; email Leslie.Abramson@noaa.gov; or download application from: http://farallones.noaa.gov/.

• Monterey Bay National Marine Sanctuary Advisory Council: Sara Hutto, Monterey Bay National Marine Sanctuary, 99 Pacific Street, Building 455A, Monterey, CA 93940; (831) 647-4206; email Sara.Hutto@noaa.gov; or download application from http://montereybay.noaa.gov/sac/2014/recruit14v1/131110covlet.html.

• National Marine Sanctuary of American Samoa Advisory Council: Joseph Paulin, National Marine Sanctuary of American Samoa, Tauese P.F. Sunia Ocean Center, P.O. Box 4318, Pago Pago, American Samoa 96799; (684) 633-6500 extension 226; email Joseph.Paulin@noaa.gov; or download application from http://americansamoa.noaa.gov.

• Northwestern Hawaiian Islands Coral Reef Ecosystem Reserve Advisory Council: Katie Gentry-Ackerman, Office of National Marine Sanctuaries, Pacific Island Region, 6600 Kalaniana'ole Hwy, #300, Honolulu, HI 96825; (808) 694-3936; email Katie.Gentry-Ackerman@noaa.gov; or download application from http://www.papahanaumokuakea.gov/council/.

• Olympic Coast National Marine Sanctuary Advisory Council: Karlyn Langjahr, Olympic Coast National Marine Sanctuary, 115 East Railroad Ave., Suite 101, Port Angeles, WA 98362; (360) 457-6622 extension 31; email Karlyn.Langjahr@noaa.gov; or download application from http://olympiccoast.noaa.gov/involved/sac/sac_welcome.html.

• Stellwagen Bank National Marine Sanctuary Council: Elizabeth Stokes, Stellwagen Bank National Marine Sanctuary, 175 Edward Foster Road, Scituate, MA 02066; (781) 545-8026 extension 201; email Elizabeth.Stokes@noaa.gov; or download application from http://stellwagen.noaa.gov/management/sac/documents.html.

FOR FURTHER INFORMATION CONTACT: For further information on a particular national marine sanctuary advisory council, please contact the individual identified in the ADDRESSES section of this notice.

SUPPLEMENTARY INFORMATION: ONMS serves as the trustee for 14 marine protected areas encompassing more than 170,000 square miles of ocean and Great Lakes waters from the Hawaiian Islands to the Florida Key, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries and the Papahānaumokuākea Marine National Monument on issues including management, science, service, and stewardship; and to serve as liaisons between their constituents in the community and the sanctuary. Additional information on ONMS and its 14 advisory councils can be found at http://sanctuaries.noaa.gov. Information related to the purpose, policies and operational requirements for advisory councils can be found in the charter for a particular advisory council (http://sanctuaries.noaa.gov/management/ac/council_charters.html ) and the National Marine Sanctuary Advisory Council Implementation Handbook (http://www.sanctuaries.noaa.gov/management/ac/acref.html ).

The following is a list of the vacant seats, including positions (i.e., primary member or alternate), for each of the national marine sanctuary advisory councils currently seeking applications for primary members and alternates:

Flower Garden Banks National Marine Sanctuary: Conservation (primary member); Diving Operations (primary member); Fishing—Commercial (primary member); and Oil & Gas Production (primary member).

Gray's Reef National Marine Sanctuary: Living Resources Research (primary member).

Gulf of the Farallones National Marine Sanctuary Advisory Council: Youth (primary member, non-voting); and Youth (alternate, non-voting).

Monterey Bay National Marine Sanctuary Advisory Council: At-large (primary member); At-large (alternate); Diving (primary member); Diving (alternate); Education (primary member); Education (alternate); Tourism (primary member); Tourism (alternate); and Conservation (alternate).

National Marine Sanctuary of American Samoa Advisory Council: Community-At-Large: Tutuila East Area (primary member); Community-At-Large: Manu'a Area (primary member); Education (primary member); Commercial Fishing (primary member); Research (primary member); and Tourism (primary member).

Northwestern Hawaiian Islands Coral Reef Ecosystem Reserve Advisory Council: Native Hawaiian, Elder (alternate); and Native Hawaiian (alternate).

Olympic Coast National Marine Sanctuary Advisory Council: Research (primary member); Research (alternate); Citizen at Large (primary member); Citizen at Large (alternate); and Marine Resources Committee (primary member, non-voting).

Stellwagen Bank National Marine Sanctuary Advisory Council: Recreational Fishing (alternate); Business Industry (alternate); Youth (primary, non-voting); and Youth (alternate, non-voting).

Authority: 16 U.S.C. Sections 1431, et seq.

(Federal Domestic Assistance Catalog Number 11.429 Marine Sanctuary Program)

Dated: October 24, 2013.
Daniel J. Basta,
Director, Office of National Marine Sanctuaries, National Ocean Service, National Oceanic and Atmospheric Administration.

[FR Doc. 2013-27227 Filed 11-14-13; 8:45 am]

BILLING CODE 3510-NK-P